DEPARTMENT OF THE INTERIOR

National Park Service

National Register of Historic Places; Notification of Pending Nominations

Nominations for the following properties being considered for listing in the National Register were received by the National Park Service before September 4, 2004.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 6, 2004.

Carol D. Shull,
Keeper of the National Register of Historic Places.

CALIFORNIA

Merced County

Bank of Italy, Merced, 501 W. Main St., Merced, 04001135

Orange County

Goldschmidt House, 243 Avenida La Cuesta, San Clemente, 04001136

San Francisco County

Golden Gate Park, Bounded by Fulton St., Stanyan St., Fell St., Baker St., Oak St., Lincoln Way and The Great Highway, San Francisco, 04001137

GEORGIA

Gwinnett County

Bona Allen Shoe and Horse Collar Factory, 554 W. Main St., Buford, 04001138

IOWA

Dallas County

Prairie Center Methodist Episcopal Church and Pleasand Hill Cemetery, Beaumont Ave. and 200th St., Yale, 04001141

Lee County

Keokuk Young Women's Christian Association Building, 425 Blondeau St., Keokuk, 04001140

KANSAS

Atchison County

Stranger Creek Warren Truss Bridge, (Metal Truss Bridges in Kansas 1861-1939 MPS) On Haskell Rd., 0.8 mi. S of the jct. with 262 Rd., 0.5 mi. S of town of Farmington, Farmington, 04001139

Leavenworth County

Abernathy Furniture Company Factory, 200-210 Seneca St., Leavenworth, 04001142

Saline County

Hobbs Creek Truss Leg Bedstead Bridge, (Metal Truss Bridges in Kansas 1861-1939 MPS) On Hobbs Creek Rd., 0.6 mi. W of jct with Solomon Rd., Gypsum, 04001143

MISSISSIPPI

Washington County

Leland Historic District, Portions of N and S Broad, N and S Main, Deer Creek Dr., and Third St., Leland, 04001144

NEW YORK

Queens County

Main Street Subway Station (Dual System IRT), (New York City Subway System MPS) Near jct. of Roosevelt Ave. and Main St., Flushing, 04001147

OHIO

Cuyahoga County

Vitrolite Building, 2911-2915 Detriot Ave., Cleveland, 04001148

Franklin County

Buckeye State Building and Loan Company Building, 36-42 E. Gay St., Columbus, 04001145

Stark County

Purcell, Robert A. and Elizabeth H., House, 2700 Fairway Ln., Alliance, 04001146

PUERTO RICO

San Juan Municipality Edificio Victory Garden, 1001 Ponce de Leon Ave., corner of Elisa Colberg St., San Juan, 04001149

SOUTH CAROLINA

Richland County

University Neighborhood Historic District, Roughly bounded by Gervais St., the Sourther Railroad Cut, Greene St. and Pickens St., Columbia, 04001150

TEXAS

Hays County

Camp Ben McCulloch, (Rural Properties of Hays County, Texas MPS) 18301 Ranch Rd. 1826, Driftwood, 04001151

Travis County

Worrell—Ettlinger House, 3110 Harris Park Ave., Austin, 04001152

WISCONSIN

Dane County

Jenifer—Spaight Historic District, Jenifer and Spaight Sts. roughly bounded by S. Brearly st. and Williamson St., Madison, 04001153

A request for a move has been made for the following resource:

CALIFORNIA

San Diego County

Naval Training Station Barnett St. And Rosecrans Blvd. San Diego, 00000426

[FR Doc. 04-21132 Filed 9-20-04; 8:45 am]

BILLING CODE 4312-51-P